DEPARTMENT OF DEFENSE

Department of the Navy

Notice of Availability of Government-Owned Invention; Available for Licensing

AGENCY: Department of the Navy, DOD.

ACTION: Notice.

SUMMARY: The invention listed below is assigned to the United States Government as represented by the Secretary of the Navy and is available for licensing by the Department of the Navy.

U.S Patent Application Serial No.10/390,404 entitled “A Port Security Barrier System”. Navy Case No.83,881. As well as Navy Case No. 84,694 entitled “In Port Barrier System (IPBS).”

ADDRESSES: Requests for copies of the patent application cited should be directed to the Naval Research Laboratory, Code 3008.2, 4555 Overlook Ave, SW., Washington, DC 20375-5320, and must include the Navy Case number.

FOR FURTHER INFORMATION CONTACT: Dr. Richard H. Rein, Head, Technology Transfer Office, NRL, Code 1004, 4555 Overlook Ave, SW., Washington, DC 20375-5320, telephone (202) 767-7230.

(Authority: 35 U.S.C. 207, 37 CFR part 404.)

Dated: May 19, 2003.
E.F. McDonnell,
Major, U.S. Marine Corps, Federal Register Liaison Officer.

[FR Doc. 03-12956 Filed 5-22-03; 8:45 am]

BILLING CODE 3810-FF-P